FEDERAL ACCOUNTING STANDARDS ADVISORY BOARD

Call for Candidates

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board (FASAB) is currently seeking candidates (candidates must not currently be federal employees) to serve on the Board. FASAB is the body designated to establish generally accepted accounting principles for federal government entities. Generally, non-federal Board members are selected from the general financial community, the accounting and auditing community, or academics. Specifically, FASAB is particularly interested in candidates who have experience as:

• Analysis of financial information,

• Economists or forecasters,

• Academics,

• Auditors,

• Preparers of financial information, or

• Those otherwise knowledgeable regarding the use of financial information in decision-making.

The Board meets in Washington, DC, for two days every other month. Members are compensated for 24 days per year based on current federal executive salaries. Travel expenses are reimbursed.

Responses may be submitted by e-mail to paynew@fasab.gov or by fax to (202) 512-7366. Responses may also be sent to: Ms. Wendy Payne, Executive Director, Federal Accounting Standards Advisory Board, 441 G Street, NW. (Mailstop 6817V), Washington, DC 20548.

Please submit your resume before February 13, 2011. Additional information about the FASAB can be obtained from its Web site at http://www.fasab.gov.

Authority: Federal Advisory Committee Act, Pub. L. 92-463.

Dated: January 21, 2011.
Charles Jackson,
Federal Register Liaison Officer.

[FR Doc. 2011-1667 Filed 1-26-11; 8:45 am]

BILLING CODE 1610-02-P